DEPARTMENT OF COMMERCE

International Trade Administration

[A-122-838]

Notice of Postponement of Preliminary Antidumping Duty Determination: Certain Softwood Lumber Products From Canada

AGENCY: Import Administration, International Trade Administration, Department of Commerce.

EFFECTIVE DATE: September 7, 2001.

FOR FURTHER INFORMATION CONTACT: Charles Riggle or Gabriel Adler, Office 5, Group II, Import Administration, International Trade Administration, U.S. Department of Commerce, 14th Street and Constitution Avenue NW., Washington, DC 20230; telephone (202) 482-0650, or (202) 482-3813, respectively.

POSTPONEMENT OF PRELIMINARY DETERMINATION: The Department of Commerce (the Department) is postponing the deadline for issuance of the preliminary determination in the antidumping duty investigation of certain softwood lumber products from Canada until October 15, 2001.

On April 23, 2001, the Department initiated an antidumping investigation of certain softwood lumber products from Canada. See Initiation of Antidumping Duty Investigation: Certain Softwood Lumber Products from Canada, 66 FR 21328 (April 30, 2001). The notice stated that the Department would issue its preliminary determination no later than 140 days after the date of initiation (i.e., September 10, 2001). At the request of the petitioner,¹ on July 30, 2001, the Department postponed the date of preliminary determination by two weeks, until September 24, 2001.

¹ Coalition for Fair Lumber Imports Executive Committee.

In accordance with Section 733(c)(1)(A) of the Tariff Act of 1930, as amended, (the Act), on August 23, 2001, the petitioner filed a request that the Department further postpone the preliminary determination in this investigation by three weeks. The petitioner's request for postponement was timely, and the Department finds no compelling reason to deny the request. Therefore, in accordance with section 733(c)(1) of the Act, the Department is postponing the deadline for issuing this preliminary determination until October 15, 2001.

This postponement is in accordance with section 733(c) of the Act and 19 CFR 351.205(b)(2).

Dated: August 31, 2001.
Bernard T. Carreau,
Acting Assistant Secretary for Import Administration.

[FR Doc. 01-22556 Filed 9-6-01; 8:45 am]

BILLING CODE 3510-DS-P